DEPARTMENT OF AGRICULTURE

Submission for OMB Review; Comment Request

September 18, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Generic Fruit Crops, Marketing Order Administration Branch.

OMB Control Number: 0581-0189.

Summary of Collection: Industries enter into a marketing order program under the Agricultural Marketing Agreement Act (AMAA) of 1937, as amended by U.S.C. 601-674. Marketing Order programs provide an opportunity for producers of fresh fruits in specified production areas, to work together to solve marketing problems that cannot be solved individually. Order regulations help ensure adequate supplies of high quality product and adequate returns to producers. Under the market orders, producers and handlers are nominated by their respective peers and serve as representatives on their respective committees/boards.

Need and Use of the Information: The information collected is essential to provide the respondents the type of service they request. The committees and boards have developed forms as a means for persons to file required information relating to supplies, shipments, and dispositions of their respective commodities. The information is used only by the authorized committees employees and representatives of USDA including AMS, Fruit and Vegetable Programs' regional and headquarters' staff to administer the marketing order programs.

Description of Respondents: Business or Other For-Profit; Farms.

Number of Respondents: 16,043.

Frequency of Responses: Recordkeeping; Reporting; On Occasion, Quarterly; Biennially; Weekly; Semi-Annually; Monthly; Annually.

Total Burden Hours: 8,460.

Charlene Parker,
Departmental Information Collection Clearance Officer.

[FR Doc. E7-18659 Filed 9-20-07; 8:45 am]

BILLING CODE 3410-02-P